DEPARTMENT OF THE INTERIOR

Office of the Secretary

Vendor Outreach Workshop for Small Businesses in the Southeast Region of the United States

AGENCY: Office of the Secretary, Interior.

ACTION: Notice.

SUMMARY: The Office of Small and Disadvantaged Business Utilization of the Department of the Interior is hosting a Vendor Outreach Workshop for small businesses in the southeast region of the United States that are interested in doing business with the Department. The National Park Service, Fish and Wildlife Service and U.S. Geological Survey are partnering in this exciting event that will promote small business. This outreach workshop will review market contracting opportunities for the attendees. Business owners will be able to share their individual perspectives with Contracting Officers, Program Managers and Small Business Specialists from the Department. Following the workshop, businesses will also participate in a match-making event that will allow business representatives to talk one-on-one with the Department's officials.

DATES: The workshop will be held on February 11, 2009, from 8:30 a.m. to 4 p.m.

ADDRESSES: The workshop will be held at the Georgia International Convention Center; 2000 Convention Center Concourse (Salons 1 & 2); College Park, GA 30337. Register online at: http://www.doi.gov/osdbu.

FOR FURTHER INFORMATION CONTACT: Mark Oliver, Director, Office of Small and Disadvantaged Business Utilization, 1849 C Street, NW., MS 2252 MIB, Washington, DC 20240, telephone 877-375-9927.

SUPPLEMENTARY INFORMATION: In accordance with the Small Business Act, as amended by Public Law 95-507, the Department has the responsibility to promote the use of small and small disadvantaged business for its acquisition of goods and services. The Department is proud of its accomplishments in meeting its business goals for small, small disadvantaged, 8(a), woman-owned, HUBZone, and service-disabled veteran-owned businesses. In Fiscal Year 2008, the Department awarded 55 per cent of its $2.6 billion in contracts to small businesses.

This fiscal year, the Office of Small and Disadvantaged Business Utilization is reaching out to our internal stakeholders and the Department's small business community by conducting several vendor outreach workshops. The vendor outreach session for the southeast region will be held in the Atlanta, Georgia, on February 11, 2009, at the Georgia International Convention Center. The Department's presenters will focus on contracting and subcontracting opportunities and how small businesses can better market services and products. Over 3,000 small businesses have been targeted for this event. If you are a small business interested in working with the Department, we urge you to register online at: http://www.doi.gov/osdbu and attend the workshop.

These outreach events are a new and exciting opportunity for the Department's bureaus and offices to improve their support for small business. Additional outreach events will be held in Alaska, Colorado, Massachusetts, New Mexico, Oregon and the District of Columbia. Dates and locations will be announced at a later date for the additional sessions.

Mark Oliver,
Director, Office of Small and Disadvantaged Business Utilization.

[FR Doc. E9-267 Filed 1-9-09; 8:45 am]

BILLING CODE 4310-RK-P